UNIFIED CARRIER REGISTRATION PLAN

Sunshine Act Meeting Notice; Unified Carrier Registration Plan Board Subcommittee Meeting

TIME AND DATE: April 1, 2021, from 2:30 p.m. to 3:30 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 921 4866 7883, to listen and participate in this meeting. The website to participate via Zoom Meeting and Screenshare is https://kellen.zoom.us/j/92148667883.

STATUS: This meeting will be open to the public.

MATTERS TO BE CONSIDERED: The Unified Carrier Registration Plan Finance Subcommittee (the “Subcommittee”) will continue its work in developing and implementing the Unified Carrier Registration Plan and Agreement. The subject matter of this meeting will include:

Proposed Agenda

I. Call to Order—Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—Subcommittee Chair

For Discussion and Possible Subcommittee Action

The Agenda will be reviewed, and the Subcommittee will consider adoption.

Ground Rules

□ Subcommittee action only to be taken in designated areas on agenda.

IV. Review and Approval of Minutes From the July 23, 2020 Meeting—Subcommittee Chair

For Discussion and Possible Subcommittee Action

Draft minutes from the July 23, 2020 Subcommittee meeting via teleconference will be reviewed. The Subcommittee will consider action to approve.

V. Update From UCR Banking Partners—Subcommittee Chair

The Subcommittee Chair will call for an update from the UCR Plan's banking partners at Truist Bank and the Bank of North Dakota. The Subcommittee will have the opportunity to hear information on the direction of interest rates and to ask questions.

VI. Funding the Directors and Officers Liability Insurance Reserve—Subcommittee Chair and Depository Manager

For Discussion and Possible Subcommittee Action

The Subcommittee Chair and the Depository Manager will present funding options for the Directors and Officers Liability Insurance Reserve. The Subcommittee may take action to make a recommendation to the Board on a way to fund this reserve.

VII. Funding the Special or Capital Projects Reserve—Subcommittee Chair and Depository Manager

For Discussion and Possible Subcommittee Action

The Subcommittee Chair and the Depository Manager will present funding options for the Special or Capital Projects Reserve. The Subcommittee may take action to make a recommendation to the Board on a way to fund this reserve.

VIII. Maturing of Certificate of Deposit—UCR Depository Manager

For Discussion and Possible Subcommittee Action

The UCR Depository Manager will provide an update on the certificate of deposit, which is maturing in April. The Subcommittee may take action to make a recommendation to the Board for reinvesting the proceeds.

IX. Final Distributions to States for the 2021 Registration Year—UCR Depository Manager

The Depository Manager will discuss the plan for completing the final distributions to states for 2021, which are expected to be made in April. After the distribution, all participating states will have met their full revenue entitlements for the 2021 registration year.

X. Other Business—Subcommittee Chair

The Subcommittee Chair will call for any other items Subcommittee members would like to discuss.

XI. Adjournment—Subcommittee Chair

The Subcommittee Chair will adjourn the meeting.

The agenda will be available no later than 5:00 p.m. Eastern time, March 24, 2021 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2021-06491 Filed 3-25-21; 11:15 am]

BILLING CODE 4910-YL-P